DEPARTMENT OF COMMERCE

National Oceanic and Atmospheric Administration

RIN 0648-XF598

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Whiting Committee and Advisory Panel on August 29, 2017 to consider actions affecting New England fisheries in the exclusive economic zone (EEZ). Recommendations from this group will be brought to the full Council for formal consideration and action, if appropriate.

DATES: This meeting will be held on Tuesday, August 29, 2017 at 9 a.m.

ADDRESSES: The meeting will be held at the Radisson Airport Hotel, 2081 Post Road, Warwick, RI 02886; telephone: (401) 739-3000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee and Advisory Panel will receive an annual monitoring report and recommended 2018-20 specifications from the Plan Development Team (PDT). The report includes a summary of 2016 landings and estimated discards, as well as assessment updates for northern and southern stocks of red and silver hake. They will also receive a summary of impact analyses and recommendations for preferred alternatives in Draft Amendment 22 from the PDT. The committee and advisors will discuss and identify management priorities for 2018 as well as discuss and identify small-mesh multispecies fishery regulations that could be consolidated or eliminated to improve regulatory efficiency. The committee and advisors may identify a process and timeline for this work. Other business will be discussed as necessary.

Special Accommodations

This meeting is physically accessible to people with disabilities. This meeting will be recorded. Consistent with U.S.C. 1852, a copy of the recording is available upon request. Requests for sign language interpretation or other auxiliary aids should be directed to Thomas A. Nies, Executive Director, at (978) 465-0492, at least 5 days prior to the meeting date.

Authority: 16 U.S.C. 1801 et seq.

Dated: August 7, 2017.
Tracey L. Thompson,
Acting Deputy Director, Office of Sustainable Fisheries, National Marine Fisheries Service.

[FR Doc. 2017-16864 Filed 8-9-17; 8:45 am]

BILLING CODE 3510-22-P